DEPARTMENT OF TRANSPORTATION

Office of the Secretary

Privacy Act of 1974: System of Records

AGENCY: Office of the Secretary, DOT.

ACTION: Notice to establish a system of records.

SUMMARY: DOT intends to establish a system of records under the Privacy Act of 1974.

EFFECTIVE DATE: July 31, 2006. If no comments are received, the proposal will become effective on the above date. If comments are received, the comments will be considered and, where adopted, the documents will be republished with changes.

FOR FURTHER INFORMATION CONTACT: Kara Spooner, Department of Transportation, Office of the Secretary, 400 7th Street, SW., Washington, DC 20590, (202) 366-1965 (telephone), (202) 366-7373 (fax), kara.spooner@dot.gov (Internet address).

SUPPLEMENTARY INFORMATION: The Department of Transportation system of records notice subject to the Privacy Act of 1974 (5 U.S.C. 552a), as amended, has been published in the Federal Register and is available from the above mentioned address.

DOT/ALL 17

System name:

Freedom of Information Act and Privacy Act Case Files.

Security classification:

Unclassified, non-sensitive.

System location:

These records are located at Department of Transportation (DOT) Freedom of Information Act (FOIA) and Privacy Act (PA) offices located in Washington, DC, as well as FOIA Coordination offices at regional locations.

Categories of individuals covered by the system:

Individuals who submit FOIA and PA requests and administrative appeals to DOT.

Categories of records in the system:

This system contains records and related correspondence on individuals who have filed requests for information under the provisions of the Freedom of Information Act and Privacy Act of 1974, including requests for review of initial denials of such requests; copies of requested records and records under administrative appeal.

Authority for maintenance of the system:

5 U.S.C. 552, Freedom of Information Act, as amended, and 5 U.S.C. 552a, the Privacy Act of 1974, as amended.

Purpose(s):

These records are maintained to process individuals' requests made under the provisions of the Freedom of Information Act and Privacy Act of 1974.

Routine uses of records maintained in the system, including categories of users and the purposes of such uses:

To another Federal agency (a) with an interest in the record in connection with a referral of a Freedom of Information Act (FOIA) request to that agency for its views or decision on disclosure, or (b) in order to obtain advice and recommendations concerning matters on which the agency has specialized experience or particular competence that may be useful to DOT in making required determinations under the FOIA. See also Prefatory Statement of General Routine Uses.

Disclosure to consumer reporting agencies:

None.

Policies and practices for storing, retrieving, accessing, retaining, and disposing of records in the system:

Storage:

Records are stored manually in file folders and electronically in databases.

Retrievability:

Records are retrieved by the name of the individual who made the request or FOIA case tracking or control number.

Safeguards:

Computer records are maintained in a secure, password protected computer system. Paper records are maintained in lockable file cabinets. All records are maintained in secure, access-controlled areas or buildings.

Retention and disposal:

Records are retained according to the National Archives' General Records Schedule 14 for FOIA request, appeal, control, reports and administrative files and Privacy Act request, amendment case, accounting of disclosure, control and administrative files.

System manager(s) and address:

Freedom of Information Act Officer, Department of Transportation, 400 7th Street, SW., Room 5432, Washington, DC 20590, for all elements of the Department of Transportation except the Federal Aviation Administration; Freedom of Information Act Officer, Federal Aviation Administration, 800 Independence Avenue, Washington, DC 20591.

Notification procedure:

Same as “System Manager.”

Record access procedures:

Same as “System Manager.”

Contesting record procedures:

Same as “System Manager.”

Record source categories:

Those individuals who submit initial requests and administrative appeals pursuant to FOIA and PA, the agency records obtained in the process of responding to such requests and appeals, and DOT personnel who handle such requests and appeals.

Exemptions claimed for the system:

During the course of a FOIA or PA action, exempt materials from other systems of records may in turn become part of the case records in this system. To the extent that copies of exempt records from those ‘other’ systems of records are entered into the FOIA/PA case file, the same exemptions apply for those records, as are claimed for the original systems of records which they are a part.

Dated: June 13, 2006.
Kara Spooner,
Departmental Privacy Officer.

[FR Doc. E6-9580 Filed 6-16-06; 8:45 am]

BILLING CODE 4910-9X-P